FEDERAL COMMUNICATIONS COMMISSION

Notice of Public Information Collection Approved by the Office of Management and Budget

March 24, 2007.

SUMMARY: The Federal Communications Commission (Commission) has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT: section below.

FOR FURTHER INFORMATION CONTACT: Sue Gilgenbach, Sue.Gilgenbach@fcc.gov, (202) 418-0639.

SUPPLEMENTARY INFORMATION: OMB Control Number: 3060-1003.

OMB Approval Date: July 21, 2007.

Expiration Date: July 31, 2010.

Title: Communications Disaster Information Reporting Systems (DIRS).

Form No.: Not applicable.

Estimated Annual Burden: 5,300 responses; 0.7 hours (42 minutes) per response; 3,710 hours total per year.

Obligation to Respond: Voluntary.

Nature and Extent of Confidentiality: Because the information that communications companies input to DIRS is sensitive, for national security and/or commercial reasons, DIRS filings shall be treated as presumptively confidential upon filing. The Federal Communications Commission's Public Safety & Homeland Security Bureau Launches Disaster Information Reporting System, 72 FR 52879 (Sept. 17, 2007); The FCC's Public Safety & Homeland Security Bureau Launches Disaster Information Reporting System (DIRS), Public Notice, 22 FCC Rcd 16757 (PSHSB 2007). DIRS filings will, however, be shared with the Department of Homeland Security's National Communications System (NCS) on a confidential basis.

Needs and Uses: This voluntary information collection will better enable the Commission to assist communications companies with the restoration of communications in times of crisis, including in the aftermath of terrorist attacks or natural disasters. Through DIRS, wireless, wireline, broadcast, and cable communications providers can provide their emergency contact information and report communications infrastructure status and situational awareness information during times of crisis (e.g., status of their communications equipment, restoration efforts, and source and status of their power supply). The Commission will be able to use this information to ensure that the public and public safety, public health, and other emergency and defense personnel have effective communications services available to them in the immediate aftermath of a disaster.

Federal Communications Commission.
William F. Caton,
Deputy Secretary.

[FR Doc. E8-6562 Filed 3-28-08; 8:45 am]

BILLING CODE 6712-01-P